DEPARTMENT OF ENERGY

Federal Energy Regulatory Commission

Combined Notice of Filings #1

Take notice that the commission received the following accounting Request filings:

Docket Numbers: AC25-33-000.

Applicants: Michigan Electric Transmission Company LLC.

Description: Michigan Electric Transmission Company, LLC submits proposed journal entries for its acquisition of electric plant conveyed by Consumers Energy Company consummated on or about 09/20/2024.

Filed Date: 12/10/24.

Accession Number: 20241210-5046.

Comment Date: 5 p.m. ET 1/10/25.

Take notice that the Commission received the following electric corporate filings:

Docket Numbers: EC25-33-000.

Applicants: Pome BESS LLC.

Description: Application for Authorization Under Section 203 of the Federal Power Act of Pome BESS LLC.

Filed Date: 12/23/24.

Accession Number: 20241223-5462.

Comment Date: 5 p.m. ET 1/13/25.

Docket Numbers: EC25-34-000.

Applicants: Hill Top Energy Center LLC.

Description: Application for Authorization Under Section 203 of the Federal Power Act of Hill Top Energy Center LLC.

Filed Date: 12/26/24.

Accession Number: 20241226-5387.

Comment Date: 5 p.m. ET 1/16/25.

Take notice that the Commission received the following Complaints and Compliance filings in EL Dockets:

Docket Numbers: EL25-45-000.

Applicants: SRI International Cogeneration Project.

Description: Petition for Declaratory Order of SRI International Cogeneration Project.

Filed Date: 12/23/24.

Accession Number: 20241223-5431.

Comment Date: 5 p.m. ET 1/13/25.

Take notice that the Commission received the following electric rate filings:

Docket Numbers: ER10-2357-012; ER10-2361-013; ER10-2368-011; ER10-2369-011; ER10-2382-012; ER10-2385-014; ER12-1238-011; ER12-1239-011; ER17-1217-006; ER19-1200-012.

Applicants: Clearway Power Marketing LLC, Total Gas & Power North America, Inc., Crofton Bluffs Wind, LLC, Broken Bow Wind, LLC, Elkhorn Ridge Wind, LLC, San Juan Mesa Wind Project, LLC, Taloga Wind, LLC, Laredo Ridge Wind, LLC, Wildorado Wind, LLC, Sleeping Bear, LLC.

Description: Triennial Market Power Analysis for Southwest Power Pool Inc. Region of Sleeping Bear, LLC, et al.

Filed Date: 12/26/24.

Accession Number: 20241226-5389.

Comment Date: 5 p.m. ET 2/24/25.

Docket Numbers: ER10-2437-023.

Applicants: Arizona Public Service Company.

Description: Triennial Market Power Analysis Southwest Region of Arizona Public Service Company.

Filed Date: 12/26/24.

Accession Number: 20241226-5384.

Comment Date: 5 p.m. ET 2/24/25.

Docket Numbers: ER10-2595-006; ER10-276-007; ER10-1790-025; ER11-2041-020; ER12-1400-009; ER23-688-002; ER13-33-010; ER23-689-002.

Applicants: BP Energy Retail Company LLC, Collegiate Clean Energy, LLC, BP Energy Retail Company California LLC, Flat Ridge 2 Wind Energy LLC, Innovative Energy Systems, LLC, BP Energy Company, Rolling Thunder I Power Partners, LLC, Flat Ridge Wind Energy, LLC.

Description: Triennial Market Power Analysis for Southwest Power Pool Inc. Region of BP Energy Company, et al.

Filed Date: 12/20/24.

Accession Number: 20241220-5526.

Comment Date: 5 p.m. ET 2/18/25.

Docket Numbers: ER12-2037-015; ER12-2314-011; ER15-2129-008; ER16-2360-010; ER20-1515-003.

Applicants: Milligan 1 Wind LLC, Great Western Wind Energy, LLC, Slate Creek Wind Project, LLC, Spinning Spur Wind LLC, Spearville 3, LLC.

Description: Triennial Market Power Analysis for Southwest Power Pool Inc. Region of Spearville 3, LLC, et al.

Filed Date: 12/23/24.

Accession Number: 20241223-5455.

Comment Date: 5 p.m. ET 2/21/25.

Docket Numbers: ER14-1193-006.

Applicants: West Deptford Energy, LLC.

Description: Compliance filing: Informational Filing Regarding Transfer of Ownership to be effective N/A.

Filed Date: 12/27/24.

Accession Number: 20241227-5207.

Comment Date: 5 p.m. ET 1/17/25.

Docket Numbers: ER15-1905-019.

Applicants: Amazon Energy LLC.

Description: Triennial Market Power Analysis for Southwest Power, Pool Inc. Region of Amazon Energy LLC.

Filed Date: 12/23/24.

Accession Number: 20241223-5458.

Comment Date: 5 p.m. ET 2/21/25.

Docket Numbers: ER16-2271-012; ER20-539-006; ER16-581-013; ER19-828-006; ER20-1338-005; ER20-2505-004; ER21-2204-006; ER21-2279-003; ER17-1370-012; ER21-1254-006; ER22-1103-003.

Applicants: BRP Capital & Trade LLC, Genbright LLC, ENGIE Energy Marketing NA, Inc., Iron Star Wind Project, LLC, ENGIE Power & Gas LLC, Triple H Wind Project, LLC, King Plains Wind Project, LLC, Solomon Forks Wind Project, LLC, ENGIE Portfolio Management, LLC, East Fork Wind Project, LLC, ENGIE Resources LLC.

Description: Supplement to 01/31/2024, Notice of Change in Status of ENGIE Energy Marketing NA, Inc. et al.

Filed Date: 11/13/24.

Accession Number: 20241113-5147.

Comment Date: 5 p.m. ET 1/17/25.

Docket Numbers: ER25-479-001.

Applicants: Midcontinent Independent System Operator, Inc., American Transmission Company LLC.

Description: Tariff Amendment: American Transmission Company LLC submits tariff filing per 35.17(b): 2024-12-27_SA 4397 ATC-WEPCo Substitute Original E&P (Oak Creek) to be effective 1/19/2025.

Filed Date: 12/27/24.

Accession Number: 20241227-5137.

Comment Date: 5 p.m. ET 1/17/25.

Docket Numbers: ER25-815-000.

Applicants: American Electric Power Service Corporation.

Description: § 205(d) Rate Filing: AEPSC submits OPCo and AMPT Coordination Agreement SA# 7450 to be effective 1/1/2025.

Filed Date: 12/27/24.

Accession Number: 20241227-5016.

Comment Date: 5 p.m. ET 1/17/25.

Docket Numbers: ER25-816-000.

Applicants: PJM Interconnection, L.L.C.

Description: § 205(d) Rate Filing: Original NSA, SA No. 7449; Queue No. W3-003/AD2-026/AE1-156 to be effective 2/26/2025.

Filed Date: 12/27/24.

Accession Number: 20241227-5034.

Comment Date: 5 p.m. ET 1/17/25.

Docket Numbers: ER25-817-000.

Applicants: PJM Interconnection, L.L.C.

Description: § 205(d) Rate Filing: GIA, No. 7446; A18/AA1-043/AD2-035/AF2-030 & Cancellation of No. 4807; AD2-035 to be effective 12/2/2024.

Filed Date: 12/27/24.

Accession Number: 20241227-5050.

Comment Date: 5 p.m. ET 1/17/25.

Docket Numbers: ER25-818-000.

Applicants: Ameren Transmission Company of Illinois.

Description: § 205(d) Rate Filing: 2024-12-27_SA 4423 ATXI-MJMEUC-Sikeston TIA to be effective 2/26/2025.

Filed Date: 12/27/24.

Accession Number: 20241227-5117.

Comment Date: 5 p.m. ET 1/17/25.

Docket Numbers: ER25-819-000.

Applicants: Woodward Energy Storage, LLC.

Description: § 205(d) Rate Filing: Application for Market-Based Rate Authorization to be effective 2/26/2025.

Filed Date: 12/27/24.

Accession Number: 20241227-5155.

Comment Date: 5 p.m. ET 1/17/25.

Docket Numbers: ER25-820-000.

Applicants: Indianapolis Power & Light Co, AES Pike County Energy Storage, LLC.

Description: Request for Authorization to Undertake Affiliate Sales of AES Pike County Energy Storage, LLC, et al.

Filed Date: 12/23/24.

Accession Number: 20241223-5464.

Comment Date: 5 p.m. ET 1/13/25.

Docket Numbers: ER25-821-000.

Applicants: PJM Interconnection, L.L.C.

Description: § 205(d) Rate Filing: GIA, SA No. 7453; AF2-150/AG1-039 & Cancellation of ISA, SA 6963; Queue AF2-150 to be effective 12/4/2024.

Filed Date: 12/27/24.

Accession Number: 20241227-5171.

Comment Date: 5 p.m. ET 1/17/25.

Take notice that the Commission received the following public utility holding company filings:

Docket Numbers: PH25-2-000.

Applicants: KKR & Co. Inc.

Description: KKR & Co. Inc. submits FERC 65-B Waiver Notification.

Filed Date: 12/23/24.

Accession Number: 20241223-5457.

Comment Date: 5 p.m. ET 1/13/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: December 27, 2024.
Carlos D. Clay,
Acting Deputy Secretary.

[FR Doc. 2024-31564 Filed 1-2-25; 8:45 am]

BILLING CODE 6717-01-P